POSTAL SERVICE

39 CFR Part 111

Address Sequencing Services

AGENCY: Postal Service.

ACTION: Proposed rule.

SUMMARY: The United States Postal Service provides mailers with both manual and electronic address sequencing services for their address lists, including electronic address sequencing (EAS) service and computerized delivery sequencing (CDS) service. Mailers who prepare their mail using these services may qualify for postage discounts. In addition, these services help mailers use the best possible addresses on their mail. This improves mail deliverability and reduces the costs of the Postal Service.

Mailers who qualify for, and obtain, the highest level of address sequencing service (Level 3 Service) from the Postal Service for an address list, may then apply to obtain a CDS subscription for each separate address group in each 5-digit ZIP Code within that address list. The Postal Service proposes to streamline the process by which it provides seed addresses to CDS subscribers and accepts address lists from mailers for Level 3 Service. The Postal Service proposes to provide mailers with more detailed information so that they may properly submit address lists to the Postal Service in order to obtain address sequencing services. CDS subscribers will continue to obtain the benefit of using seed addresses to assist them in protecting their address lists. The Postal Service also proposes to clarify that the requirements for obtaining Level 3 Service and CDS subscriptions for Post Office box address groups is the same as for other address groups.

DATES: Written comments must be received on or before December 9, 2004.

ADDRESSES: Written comments should be mailed to the Computerized Delivery Sequence (CDS) Department, National Customer Support Center, United States Postal Service, 6060 Primacy Pkwy Ste 201, Memphis TN 38188-0001. Copies of all written comments will be available at this address for public inspection and photocopying between 9 a.m. and 4 p.m., Monday through Friday.

FOR FURTHER INFORMATION CONTACT: Becky Dunn, National Customer Support Center, United States Postal Service, (800)-238-3150.

SUPPLEMENTARY INFORMATION: The Postal Service offers a range of manual and electronic address sequencing services not only to mailers who develop or own address lists, but also to mailers who use address lists they obtain from third parties. Mailers, as well as parties acting on behalf of mailers, may obtain address sequencing services by submitting address lists to the Postal Service either in the form of address cards or electronic address files (both forms are referred to as “address lists”). The Postal Service only provides address sequencing and correction services. It does not provide address lists of postal customers to the public. See 39 U.S.C. 412.The Postal Service offers mailers three levels of address sequencing services for address lists:

Level 1 Service: The Postal Service arranges addresses in delivery sequence and removes undeliverable addresses from address lists.

Level 2 Service: In addition to Level 1 Service, the Postal Service inserts blank cards for missing addresses in an address list submitted as address cards, or delivery sequence numbers for addresses missing from the mailer's electronic address list file.

Level 3 Service: In addition to Levels 1 and 2 Service, the Postal Service inserts addresses for missing or new addresses either by address cards or into electronic address files, depending on whether the mailer has submitted its address list as address cards or as an electronic address list file. In order to obtain Level 3 Service, a mailer must satisfy the Postal Service requirements summarized below.

The Postal Service will provide Level 3 Service only if the address list contains at least ninety percent (90%), but not more than one hundred ten percent (110%), of the delivery addresses in each separate address group in a 5-digit ZIP Code (such as city, rural, Post Office box) after the Postal Service removes undeliverable addresses.

The Postal Service, as a new requirement, proposes that mailers must submit a completed Processing Acknowledgement Form (PAF Form) to the Postal Service in order to obtain Level 3 Service for an address list. A sample of this form follows this notice. Mailers must provide required information on the PAF Form such as contact information, whether they have a current CDS subscription, and if so, their computerized delivery sequence (CDS) customer number. In addition, mailers must submit information concerning the origin or acquisition of the address list submitted to the Postal Service. A mailer must attach a description to the PAF Form as to how it developed the address list if it states that it has not acquired the address list from a third party. If instead, a mailer states on the PAF Form that it has acquired the address list from a third party, the Postal Service proposes to require that the mailer submit written documentation from the owner of that address list (including any CDS subscriber who may have inserted seed addresses in to the address list), that authorizes the mailer to submit the address list to the Postal Service in order to obtain Level 3 Service or a CDS subscription. The CDS subscriber may set a date after which the mailer is no longer authorized to submit the address list to the Postal Service for Level 3 Service or a CDS subscription. The Postal Service will not provide Level 3 Service for an address list if an authorization from a CDS subscriber has expired.

Only a mailer who has qualified for and obtained Level 3 Service for ZIP Code groupings in an address list may apply to the Postal Service to obtain a CDS subscription for those ZIP Code groupings, thereby becoming a CDS subscriber. CDS subscriptions enable mailers to maintain current delivery sequencing information for their qualified address lists. The Postal Service periodically provides CDS subscribers with updated CDS file information that contains a list of addresses in a ZIP Code grouping arranged in delivery sequence as served by a specific Postal Service carrier. In addition, the Postal Service assists CDS subscribers in protecting their address lists through the Postal Service's seed address program.

The Postal Service proposes to streamline the process by which it provides qualified CDS subscribers with seed addresses for a ZIP Code and address group within an address list. A seed address is a fictitious address that CDS subscribers may elect to obtain from the Postal Service. Each seed address that the Postal Service assigns to a CDS subscriber is unique to that CDS subscriber. CDS subscribers may insert the assigned seed address (or addresses) into an address list as a way to identify that address list as belonging to the CDS subscriber. This may enable the detection of unauthorized use of the CDS subscriber's address list by other mailers.

The Postal Service understands that some CDS subscribers permit other mailers to use their address lists, and permit third-party intermediaries, such as list brokers, to provide the CDS subscribers' address lists to mailers. The Postal Service has experienced a number of problems with address lists that mailers acquire from third parties. Mailers appear to reasonably believe that they are authorized to submit the address lists for Level 3 Service and CDS subscriptions either based on representations made by the third-party intermediaries and list brokers, or by the failure of the third party to clearly explain the limited use of the address list. There are concerns in the mailing industry that some mailers who seek Level 3 Service and CDS subscriptions are not qualified to do so.

To resolve these problems, the Postal Service proposes to require that in the event that a CDS subscriber on its own, or through another party, authorizes a mailer to submit the subscriber's address list to the Postal Service for Level 3 Service, the CDS subscriber must provide the mailer with written authorization to do so. The Postal Service proposes that CDS subscribers who wish to obtain seed addresses must agree to be responsible for ensuring that any such third-party intermediaries or list brokers ensure that mailers who are seeking Level 3 Service receive the necessary written authorization in addition to the address lists. The mailer then must furnish this written authorization together with the completed PAF Form to the Postal Service, as described above, if the mailer seeks Level 3 Service for an address list it obtained from another party. The Postal Service will not begin Level 3 Service processing until it receives complete documentation. By implementing the foregoing procedures, the Postal Service believes that mailers who obtain address lists from third parties should be able to obtain Level 3 Service only for those address lists for which they have received written authorization.

In the event a mailer submits an address list it obtained from another party to the Postal Service for Level 3 Service and the Postal Service locates a seed address that has not been assigned to the mailer, the Postal Service will continue its present practice of notifying the CDS subscriber to whom the seed address has been assigned. The Postal Service will provide the CDS subscriber with the identity of the mailer. The Postal Service proposes to supplement this process by also notifying the mailer of the identity of the CDS subscriber. The Postal Service will not release to the mailer that part of the address list for the ZIP Code containing a seed address until it receives authorization from the CDS subscriber.

The CDS subscriber and the mailer, as well as any intermediaries or list brokers (if any), will then be responsible for independently resolving issues concerning the proper use of the address list without Postal Service involvement. Due to the fact that the parties themselves now will handle address list questions in a manner they see fit, the Postal Service proposes to discontinue its current practice of researching seed address problems. The Postal Service, however, will continue its existing practice of processing address groups without seed addresses in the address list submitted by the mailer.

The Postal Service also proposes to clarify in its address sequencing program materials that its requirements for mailers to obtain Level 3 Service and CDS subscriptions for Post Office box address groups in each 5-digit ZIP Code within an address list are the same as for other address groups, including the following: (1) Mailers must submit their address lists in the form of either address cards or electronic files to the Postal Service in order to obtain Level 3 Service or CDS subscriptions for Post Office box address groups, and (2) the Postal Service charges mailers the same fees for obtaining address sequencing services for Post Office box address groups as it does for other address groups.

Although exempt from the notice and comment requirements of the Administrative Procedure Act (5 U.S.C. of 553(b)-(c)) regarding proposed rulemaking by 39 U.S.C. 410(a), the Postal Service invites public comment on the following proposed revisions to the Domestic Mail Manual (DMM) A920, incorporated by reference in the Code of Federal Regulations (CFR). See 39 CFR 111.1.

List of Subjects in 39 CFR Part 111

Postal Service.

PART 111—[AMENDED]

1. The authority citation for 39 CFR Part 111 continues to read as follows:

Authority: 5 U.S.C. 552(a); 39 U.S.C. 101, 401, 403, 404, 414, 416, 3001-3011, 3201-3219, 3403-3406, 3621, 3626, 5001.

2. Amend the following sections of the Domestic Mail Manual as set forth below:

Domestic Mail Manual (DMM)

* * * * *

A Addressing

* * * * *

A900 Customer Support

* * * * *

A920 Address Sequencing Services

1.0 SERVICE LEVELS

* * * * *

[Revise item d to read as follows:]

d. Mailers who have obtained address sequencing services described in A920.1.c and 920.4.1 (Level 3 Service) for address lists, and who have a current computerized delivery sequence (CDS) subscription, may apply to USPS to obtain seed addresses to include in their address lists. Qualified CDS subscribers may elect to include a seed address in an address list for identifying the list and detecting the use of the address list by another mailer.

[Revise item e to read as follows:]

e. If a mailer states that it has obtained an address list from another party, and USPS locates a seed address when processing that address list for Level 3 Service, USPS will notify both the mailer who submitted the address list as well as the CDS subscriber to whom USPS has assigned the seed address. USPS will provide the CDS subscriber with the identity of the mailer, and will provide the mailer with the identity of the CDS subscriber. USPS will not release to the mailer those portions of the address list for the ZIP Codes containing the seed address, unless USPS receives written authorization to do so from the CDS subscriber if the mailer has obtained the address list from the CDS subscriber or a party acting on behalf of the CDS subscriber. USPS only will release those portions of the address list for ZIP Codes not containing seed addresses if the mailer meets all other USPS address sequencing requirements.

2.0 CARD PREPARATION AND SUBMISSION

* * * * *

[Revise title and text of 2.2 to read as follows:]

2.2 Limitations

The mailer is required to remit all fees to USPS for address sequencing services performed by USPS, including service for which USPS does not release to the mailer a ZIP Code containing a seed address. See A920.5 below. a. In order to obtain a Level 3 Service, the mailer must submit address cards or an address file (address list) that contains at least ninety percent (90%), but not more than one hundred ten percent (110%) of all possible delivery addresses for a specific 5-digit ZIP Code delivery area.

b. If a mailer requests Level 3 Service for an address list and fails to meet any USPS address sequencing requirements for a ZIP Code within that address list, the mailer may resubmit the address list for Level 3 Service for the 5-digit ZIP Code that fails to meet USPS requirements. In the event the mailer fails to meet all USPS address sequencing requirements for the 5-digit ZIP code on the third time it submits the address list to USPS, USPS will not accept the address list for that 5-digit ZIP Code for a period of 1 year from the date the mailer submits the address list to USPS for the third time.

* * * * *

We will publish an appropriate amendment to 39 CFR Part 111 to reflect these changes if the proposal is adopted.

United States Postal Service Processing Acknowledgement Form (PAF) for Level 3 Address Sequencing Service

A mailer or a party acting on behalf of a mailer (Mailer), who submits an address list to the United States Postal Service (USPS) for Level 3 Address Sequencing Service, must submit the following completed documents to USPS at the time it submits the address list:

1. USPS PAF Form. This USPS Processing Acknowledgement Form (PAF) for Level 3 Address Sequencing Service, to which is attached:

a. Address File Obtained from Another Party. A Mailer who obtains an address list, or portion thereof, from another party, must attach a written Authorization from a Computerized Delivery Sequence (CDS) subscriber to submit the address list to USPS for Level 3 Address Sequencing; and/or

b. Address File Created or Developed by Mailer. A Mailer who states that it, or a party acting on its behalf, created or developed the address list, or portion thereof, must describe the process by which the address list was created or developed to the satisfaction of USPS; and

2. USPS Delivery Unit Summary and Processing Acknowledgement Form.

CDS subscribers may include “seed” addresses in their address lists to assist in identifying their lists. A seed address is a fictitious address that qualified CDS subscribers may elect to obtain from USPS. In the event USPS locates a seed address in an address list submitted for Level 3 Service and USPS has not assigned that seed address to the Mailer submitting the address list, and the Mailer has advised USPS that it obtained the address list from another party, USPS shall notify both the Mailer and the CDS subscriber that it has located the seed address. The Mailer and the CDS subscriber will be responsible for resolving issues concerning Mailer's use of the address list.

USPS will not release to the Mailer that portion of the address list for the ZIP Code containing the seed address until it receives an Authorization from the CDS subscriber. USPS will not release to the Mailer the identity of the seed address, or the address ranges or carrier routes containing the seed address. Provided that the address list meets all other USPS requirements for Address Sequencing Services, USPS shall release to the Mailer other ZIP Codes that do not contain seed addresses.

The Mailer is required to remit all fees to USPS for Address Sequencing Services performed by USPS, including service for which USPS does not release a ZIP Code containing a seed address. The Mailer is not relieved of its obligation to pay USPS for Address Sequencing Service performed for ZIP Codes containing seed addresses that USPS does not release to the Mailer. In the event Mailer does not timely remit all payments due to USPS, USPS may cancel the Mailer's CDS subscription, refuse to accept Mailer's address lists for Address Sequencing Services, discontinue other services provided by USPS to Mailer, initiate collection efforts, or seek other remedies.

Mailers must satisfy the requirements for and obtain Level 3 Address Sequencing Service for an address list in order to be eligible to obtain a Computerized Delivery Sequence (CDS) subscription from USPS for that address list.

Mailers must comply with USPS requirements for Address Sequencing Services and CDS subscriptions, including payment of all fees, that are set forth in the USPS Domestic Mail Manual (DMM) A920, Electronic Address Sequence (EAS) Service and CDS User Guides. USPS publishes these materials at http://www.usps.com.

Mailer Information:

Company Name:

Primary Contact: Secondary Contact:

Mailing Address:

City: State: ZIP+4:

Primary Contact Phone Number:

Primary Contact Fax Number: Primary Contact:

Email:

Secondary Contact Phone Number: Secondary Contact Fax Number: Secondary Contact:

Email:

Is Mailer a Current USPS Computerized Delivery Sequence (CDS) Customer? Yes No

If yes, what is Mailer's USPS Computerized Delivery Sequence (CDS) Customer Number?

Did Mailer obtain any portion of this address list from another party? Yes No

If no, attach a written description of how Mailer created or developed the address list to this PAF Form.

If yes, is the written Authorization attached to this PAF Form that permits Mailer to submit the address list to USPS for Level 3 Service the Authorization that Mailer received for this the address list? Yes No

If yes, does the Authorization state that seed addresses were removed from list? Yes No

Certification and Signature: Mailer, by submitting this PAF Form, and attachment(s), represents and warrants the following to USPS: (1) all information furnished on this PAF Form and attachment(s) is accurate, truthful and complete; (2) the undersigned is authorized to sign and deliver this PAF Form and attachment(s) on Mailer's behalf; (3) Mailer has read and agrees to the terms and conditions for USPS Address Sequencing Service set forth in Section A920 of the Domestic Mail Manual (DMM) and USPS EAS and CDS User Guides; (4) Mailer agrees to pay all fees assessed by USPS in accordance with the DMM; and (5) Mailer acknowledges that all requests for USPS Address Sequencing Service processing will be identified on a USPS password-secured Web site.

I understand that anyone who furnishes false or misleading information or who omits information requested on this PAF Form or attachment(s) may be subject to criminal sanctions (including fines and imprisonment), and/or civil sanctions (including multiple damages and civil penalties). The rights and remedies set forth in 18 U.S.C. 1001 shall be incorporated as if fully set forth herein.

Name and Title of Mailer's Authorized Representative (please print):

Signature of Mailer's Authorized Representative:

Date:

Stanley F. Mires,
Chief Counsel, Legislative.

[FR Doc. 04-24887 Filed 11-8-04; 8:45 am]

BILLING CODE 7710-12-P